CHEMICAL SAFETY AND HAZARD INVESTIGATION BOARD

Sunshine Act Meeting

TIME AND DATE: September 28, 2016; 6:00 p.m. EDT.

PLACE: Four Points Sheraton, 600 Kanawha Blvd. E. Charleston, WV 25301, Capital City Suites A&B.

STATUS: Open to the public.

MATTERS TO BE CONSIDERED: The Chemical Safety and Hazard Investigation Board (CSB) announces that it will convene a public meeting on Wednesday, September 28, 2016, starting at 6:00 p.m. EDT in the Capital City Suites A&B Rooms at the Four Points Sheraton in Charleston, West Virginia.

CSB staff will present findings and recommendations from the CSB investigation of the January 2014 leak from a storage tank at Freedom Industries that contaminated the local water supply, leaving hundreds of thousands of West Virginia residents without clean drinking water. An opportunity for public comment will be provided.

At the conclusion of a public comment period, the Board may vote to approve the final report and recommendations. Staff presentations are preliminary and are intended to allow the Board to consider in a public forum the issues and factors involved in this case.

Additional Information

The meeting is free and open to the public. If you require a translator or interpreter, please notify the individual listed below as the “Contact Person for Further Information,” at least three business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. The public comments will be directed to the board and facilitated by the Chairperson. Speakers should assume that their presentations will be limited to three minutes or less, but commenters may submit written statements for the record.

Contact Person for Further Information

Hillary Cohen, Communication Manager, at public@csb.gov or (202) 446-8094. Further information about the CSB and this public meeting can be found on the CSB Web site at: www.csb.gov.

Dated: September 9, 2016.
Raymond C. Porfiri,
Deputy General Counsel, Chemical Safety and Hazard Investigation Board.

[FR Doc. 2016-22122 Filed 9-9-16; 4:15 pm]

BILLING CODE 6350-01-P